DEPARTMENT OF THE INTERIOR

Bureau of Land Management

[17X.LLAK910000.L13100000.DB0000.LXSINSSI0000]

Notice of Public Meeting, North Slope Science Initiative—Science Technical Advisory Panel, Alaska

AGENCY: Bureau of Land Management, Interior.

ACTION: Notice.

SUMMARY: In accordance with the Federal Land Policy and Management Act, the Energy Policy Act, Section 348, and the Federal Advisory Committee Act, the U.S. Department of the Interior, North Slope Science Initiative—Science Technical Advisory Panel will meet as indicated below.

DATES: The meeting will be held on March 20-21, 2017, in Fairbanks, Alaska. The meeting will begin at 9 a.m. and conclude at 4 p.m. on Monday, March 20, and will begin at 9 a.m. and conclude at Noon on Tuesday, March 21. The public will have an opportunity to comment from 3:30 p.m.-4 p.m. on Monday, March 20.

ADDRESSES: The meeting will be held at the University of Alaska Fairbanks campus in the International Arctic Research Center, Room 401, 930 North Koyukuk Drive, Fairbanks, Alaska.

FOR FURTHER INFORMATION CONTACT: Scott Guyer, Acting Deputy Director, North Slope Science Initiative, Bureau of Land Management, 222 W. Seventh Avenue, #13, Anchorage, AK 99513, 907-271-3284 or email sguyer@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The Science Technical Advisory Panel provides advice and recommendations to the North Slope Science Initiative Oversight Group about priority information needs for management decisions across the North Slope of Alaska. These priority information needs and recommendations may include inventory, monitoring, and research activities that contribute to informed resource management decisions. This meeting will include continued review of emerging issues and application of North Slope Scenarios implications to inventory, monitoring, and research priorities.

Individuals who plan to attend and need special assistance, such as sign language interpretation, transportation, or other reasonable accommodations, should contact the North Slope Science Initiative Acting Deputy Director. The public may present written comments to the Science Technical Advisory Panel through the North Slope Science Initiative Acting Deputy Director. Before including your address, phone number, email address, or other personal identifying information in your comment, you should be aware that your entire comment—including your personal identifying information—may be made publicly available. While you can ask us in your comment to withhold your personal identifying information from public review, we cannot guarantee that we will be able to do so.

The draft meeting plan and minutes from previous meetings are available for public inspection at http://northslope.org/stap/#documents.

Erika Reed,
Acting Alaska State Director.

[FR Doc. 2017-04162 Filed 3-2-17; 8:45 am]

BILLING CODE 4310-JA-P